DEPARTMENT OF EDUCATION

Submission for OMB Review; Comments Request: Consolidated State Performance Report (Part I and Part II)

SUMMARY: The Consolidated State Performance Report (CSPR) is the required annual reporting tool for each State, Bureau of Indian Education, District of Columbia, and Puerto Rico as authorized under Section 9303 of the Elementary and Secondary Education Act, as amended by the No Child Left Behind Act of 2001.

DATES: Interested persons are invited to submit comments on or before May 21, 2012.

ADDRESSES: Written comments regarding burden and/or the collection activity requirements should be electronically mailed to ICDocketMgr@ed.gov or mailed to U.S. Department of Education, 400 Maryland Avenue SW., LBJ, Washington, DC 20202-4537. Copies of the proposed information collection request may be accessed from http://edicsweb.ed.gov, by selecting the “Browse Pending Collections” link and by clicking on link number 04804. When you access the information collection, click on “Download Attachments” to view. Written requests for information should be addressed to U.S. Department of Education, 400 Maryland Avenue SW., LBJ, Washington, DC 20202-4537. Requests may also be electronically mailed to ICDocketMgr@ed.gov or faxed to 202-401-0920. Please specify the complete title of the information collection and OMB Control Number when making your request.

Individuals who use a telecommunications device for the deaf (TDD) may call the Federal Information Relay Service (FIRS) at 1-800-877-8339.

SUPPLEMENTARY INFORMATION: Section 3506 of the Paperwork Reduction Act of 1995 (44 U.S.C. Chapter 35) requires that Federal agencies provide interested parties an early opportunity to comment on information collection requests. The Acting Director, Information Collection Clearance Division, Privacy, Information and Records Management Services, Office of Management, publishes this notice containing proposed information collection requests at the beginning of the Departmental review of the information collection. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Consolidated State Performance Report (Part I and Part II).

OMB Control Number: 1810-0614.

Type of Review: Revision.

Total Estimated Number of Annual Responses: 14,653.

Total Estimated Number of Annual Burden Hours: 11,838.

Abstract: This submission requests a revision to the currently-approved CSPR collection. This submission includes technical amendments such as removing tables that are unnecessary and updating racial and ethnic subgroups to comply with the Office of Management and Budget directive on reporting racial and ethnic data. It also includes substantive changes such as adding one new question for the school year (SY) 2011-2012 collection and adding one new question and new subgroups for particular questions to the SY 2012-2013 collection.

Dated: April 16, 2012.
Tomakie Washington,
Acting Director, Information Collection Clearance Division, Privacy, Information and Records Management Services, Office of Management.

[FR Doc. 2012-9514 Filed 4-19-12; 8:45 am]

BILLING CODE 4000-01-P